SUSQUEHANNA RIVER BASIN COMMISSION

Actions Taken at June 16, 2016, Meeting

AGENCY: Susquehanna River Basin Commission.

ACTION: Notice.

SUMMARY: As part of its regular business meeting held on June 16, 2016, in Lancaster, Pennsylvania, the Commission took the following actions: (1) Approved or tabled the applications of certain water resources projects; (2) accepted a settlement in lieu of penalty from New Enterprise Stone & Lime Co., Inc.; and (3) took additional actions, as set forth in the SUPPLEMENTARY INFORMATION below.

DATES: June 16, 2016.

ADDRESSES: Susquehanna River Basin Commission, 4423 N. Front Street, Harrisburg, PA 17110-1788.

FOR FURTHER INFORMATION CONTACT: Jason E. Oyler, General Counsel, telephone: (717) 238-0423, ext. 1312; fax: (717) 238-2436; email: joyler@srbc.net. Regular mail inquiries may be sent to the above address. See also Commission Web site at www.srbc.net.

SUPPLEMENTARY INFORMATION: In addition to the actions taken on projects identified in the summary above and the listings below, the following items were also presented or acted upon at the business meeting: (1) Election of the member from the State of Maryland as Chair of the Commission and the member from the Federal Government as the Vice Chair of the Commission for the period of July 1, 2016, to June 30, 2017; (2) adoption of the FY2017-2018 Water Resources Program; (3) adoption of amendment of the Comprehensive Plan for the Water Resources of the Susquehanna River Basin; (4) adoption of FY2017 Regulatory Program Fee Schedule, effective July 1, 2016; (5) adoption of a preliminary FY2018 budget for the period July 1, 2017, to June 30, 2018; (6) adoption of the Policy for Sustainable Water Resources Fund; (7) adoption of the Guidelines for Terminating Review of a Project Application; (8) adoption of the Guidelines for Expiring Project Approvals; (9) approval/ratification of an agreement, purchase of information technology equipment, and several contracts; and (10) a report on delegated settlements with the following project sponsors, pursuant to SRBC Resolution 2014-15: Vestal Hills Hospitality, in the amount of $2,000; SWN Production Company LLC, in the amount of $7,000; Inflection Energy (PA), LLC, in the amount of $3,000; and Cedar Rock Materials Corp./Bower Quarry, in the amount of $3,000.

Compliance Matter

The Commission approved a settlement in lieu of civil penalty for the following project:

1. New Enterprise Stone & Lime Co., Inc., Valley Quarries, Inc.—Shippensburg Quarry, Shippensburg Borough, Cumberland County, Pa.—$30,000.

Project Applications Approved

The Commission approved the following project applications:

1. Project Sponsor and Facility: Black Bear Waters, LLC (Lycoming Creek), Lewis Township, Lycoming County, Pa. Renewal of surface water withdrawal of up to 0.900 mgd (peak day) (Docket No. 20120303).

2. Project Sponsor and Facility: Blossburg Municipal Authority, Bloss Township, Tioga County, Pa. Renewal of groundwater withdrawal of up to 0.288 mgd (30-day average) from Route 15 Well (Docket No. 20120304).

3. Project Sponsor and Facility: Cabot Oil & Gas Corporation (Martins Creek), Harford Township, Susquehanna County, Pa. Surface water withdrawal of up to 0.500 mgd (peak day).

4. Project Sponsor and Facility: Todd and Gemma Campbell (Susquehanna River), Athens Township, Bradford County, Pa. Renewal of surface water withdrawal of up to 0.999 mgd (peak day) (Docket No. 20120609).

5. Project Sponsor and Facility: Mount Joy Borough Authority, East Donegal Township, Lancaster County, Pa. Modification to increase withdrawal limit from Well 1 by an additional 0.073 mgd (30-day average), for a total Well 1 withdrawal limit of 1.300 mgd (30-day average) (Docket No. 20110617).

6. Project Sponsor: New Enterprise Stone & Lime Co., Inc. Project Facility: Burkholder Quarry, Earl Township, Lancaster County, Pa. Groundwater withdrawal of up to 0.005 mgd (30-day average) from Sump 4.

7. Project Sponsor: New Enterprise Stone & Lime Co., Inc. Project Facility: Burkholder Quarry, Earl and Ephrata Townships, Lancaster County, Pa. Modification to increase consumptive water use by an additional 0.07 mgd (peak day), for a total consumptive water use of up to 0.220 mgd (peak day) and to add an additional new source (Sump 4) (Docket No. 20040307).

8. Project Sponsor and Facility: Renovo Energy Center LLC (West Branch Susquehanna River), Renovo Borough, Clinton County, Pa. Surface water withdrawal of up to 0.612 mgd (peak day).

9. Project Sponsor and Facility: Renovo Energy Center LLC, Renovo Borough, Clinton County, Pa. Consumptive water use of up to 0.217 mgd (peak day).

10. Project Sponsor: SUEZ Water Pennsylvania Inc. Project Facility: Newberry System, Newberry Township, York County, Pa. Groundwater withdrawal of up to 0.108 mgd (30-day average) from the Coppersmith Well.

11. Project Sponsor: SUEZ Water Pennsylvania Inc. Project Facility: Newberry System, Newberry Township, York County, Pa. Groundwater withdrawal of up to 0.200 mgd (30-day average) from Conley 1 Well.

12. Project Sponsor and Facility: Sugar Hollow Trout Park and Hatchery, Eaton Township, Wyoming County, Pa. Renewal of groundwater withdrawal of up to 0.864 mgd (30-day average) from Wells 1, 2, and 3 (the Hatchery Wellfield) (Docket No. 20100913).

13. Project Sponsor and Facility: Tioga Downs Racetrack, LLC, Town of Nichols, Tioga County, N.Y. Groundwater withdrawal of up to 0.099 mgd (30-day average) from the Racetrack Well.

14. Project Sponsor and Facility: Tioga Downs Racetrack, LLC, Town of Nichols, Tioga County, N.Y. Consumptive water use of up to 0.099 mgd (peak day).

Project Applications Tabled

The Commission tabled action on the following project applications:

1. Project Sponsor and Facility: Elizabethtown Area Water Authority, Elizabethtown Borough, Lancaster County, Pa. Application for groundwater withdrawal of up to 0.201 mgd (30-day average) from Well 1.

2. Project Sponsor and Facility: Elizabethtown Area Water Authority, Elizabethtown Borough, Lancaster County, Pa. Application for groundwater withdrawal of up to 0.106 mgd (30-day average) from Well 3.

3. Project Sponsor and Facility: Elizabethtown Area Water Authority, Elizabethtown Borough, Lancaster County, Pa. Application for groundwater withdrawal of up to 0.130 mgd (30-day average) from Well 4.

4. Project Sponsor and Facility: Elizabethtown Area Water Authority, Mount Joy Township, Lancaster County, Pa. Application for groundwater withdrawal of up to 0.187 mgd (30-day average) from Well 8.

5. Project Sponsor and Facility: Elizabethtown Area Water Authority, Mount Joy Township, Lancaster County, Pa. Application for groundwater withdrawal of up to 0.216 mgd (30-day average) from Well 9.

6. Project Sponsor: Exelon Generation Company, LLC. Project Facility: Muddy Run Pumped Storage Project, Drumore and Martic Townships, Lancaster County, Pa. Application for an existing hydroelectric facility.

7. Project Sponsor and Facility: Manbel Devco I, LP, Manheim Township, Lancaster County, Pa. Application for groundwater withdrawal of up to 4.320 mgd (30-day average) from the Belmont Quarry.

Project Application Withdrawn by Project Sponsor

The following project sponsor withdrew its project application:

1. Project Sponsor and Facility: EQT Production Company (Pine Creek), Porter Township, Lycoming County, Pa. Application for surface water withdrawal of up to 1.000 mgd (peak day).

Authority: Public Law 91-575, 84 Stat. 1509 et seq., 18 CFR parts 806, 807, and 808.

Dated: June 24, 2016.
Stephanie L. Richardson,
Secretary to the Commission.

[FR Doc. 2016-15427 Filed 6-29-16; 8:45 am]

BILLING CODE 7040-01-P